ENVIRONMENTAL PROTECTION AGENCY

40 CFR Part 63

[FRL-7156-1]

National Emission Standards for Hazardous Air Pollutants: Solvent Extraction for Vegetable Oil Production

AGENCY: Environmental Protection Agency (EPA).

ACTION: Proposed rule; amendments.

SUMMARY: We are proposing to amend the national emission standards for hazardous air pollutants (NESHAP) for solvent extraction for vegetable oil production plants, which were promulgated on April 12, 2001 (66 FR 19006) under the authority of section 112 of the Clean Air Act (CAA). These amendments would clarify the startup, shutdown and malfunction requirements for owners and operators of sources subject to the Vegetable Oil Production NESHAP. These amendments would also clarify the applicability of the NESHAP General Provisions.

In the Rules and Regulations section of this Federal Register, we are taking direct final action on the proposed amendments, because we view these actions as noncontroversial, and we anticipate no adverse comments. We have explained our reasons for these actions in the preamble to the direct final rule.

If we receive no adverse comments, we will take no further action on this proposed rule. If we receive adverse comments, we will withdraw only those provisions on which we received adverse comments. We will publish a timely withdrawal in the Federal Register indicating which provisions will become effective and which provisions are being withdrawn. If part or all of the direct final rule in the Rules and Regulations section of this Federal Register is withdrawn, all public comments pertaining to those provisions will be addressed in a subsequent final rule based on this proposed rule. We will not institute a second comment period on that subsequent final rule. If you are interested in commenting, you must do so at this time.

DATES: Comments. We must receive written comments by May 6, 2002, unless a hearing is requested by April 15, 2002. If a hearing is requested, we must receive written comments by May 20, 2002.

Public Hearing. If anyone contacts us requesting to speak at a public hearing by April 15, 2002, a public hearing will be held on April 19, 2002.

ADDRESSES: Comments. By U.S. Postal Service, submit written comments (in duplicate, if possible) to: Air and Radiation Docket and Information Center (6102), Attention Docket number A-97-59, U.S. EPA, 1200 Pennsylvania Ave., NW, Washington, DC 20460. In person or by courier, submit comments (in duplicate, if possible) to: Air and Radiation Docket and Information Center (6102), Attention Docket Number A-97-59, Room M-1500, U.S. EPA, 401 M Street, SW., Washington DC 20460. We request that a separate copy of each public comment also be sent to the contact person listed below (see FOR FURTHER INFORMATION CONTACT).

Docket. Docket No. A-97-59 contains supporting information used in developing the NESHAP. The docket is located at the U.S. EPA, 401 M Street, SW., Washington, DC 20460, in Room M-1500, Waterside Mall (ground floor), and may be inspected from 8:00 a.m. to 5:30 p.m., Monday through Friday, excluding legal holidays.

Public Hearing. If a public hearing is held, it will be held at the EPA's Office of Administration Auditorium, 109 TW Alexander Drive, Research Triangle Park, North Carolina, at 10:30 a.m.

FOR FURTHER INFORMATION CONTACT: Mr. Rick Colyer, Minerals and Inorganic Chemicals Group (C504-05), Emission Standards Division, U.S. EPA, Research Triangle Park, NC 27711, telephone number (919) 541-5262, electronic mail (e-mail): colyer.rick@epa.gov.

SUPPLEMENTARY INFORMATION: A direct final rule identical to this proposal is published in the Rules and Regulations section of this Federal Register. If relevant adverse comments are received on this proposal, the direct final rule will be withdrawn and the comments will be addressed in a subsequent final rule. If relevant adverse comments are received only on a discrete portion of the rule, we will consider withdrawing only that portion of the rule. If no relevant adverse comments are received, no further action will be taken on this proposal and the direct final will become effective as provided in that notice.

The regulatory text for this proposal is identical to that for the direct final rule published in the Rules and Regulations section of this Federal Register. For further supplementary information, see the direct final rule.

Comments

Comments and data may be submitted by e-mail to: a-and-r-docket@epa.gov. Electronic comments must be submitted as an ASCII file to avoid the use of special characters and encryption problems and will also be accepted on disks in WordPerfect format. All comments and data submitted in electronic form must note the docket number A-97-59. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: OAQPS Document Control Officer, (C404-02), Attn: Mr. Rick Colyer, U.S. EPA, Research Triangle Park, NC 27709. The EPA will disclose information identified as CBI only to the extent allowed by the procedures set forth in 40 CFR part 2. If no claim of confidentiality accompanies a submission when it is received by EPA, the information may be made available to the public without further notice to the commenter.

Docket

The docket is an organized and complete file of all the information we considered in developing this rulemaking. The docket is a dynamic file because material is added throughout the rulemaking process. The docketing system is intended to help you to readily identify and locate documents so that you can effectively participate in the rulemaking process. Along with the proposed and promulgated rules and their preambles, the contents of the docket will serve as the record in the case of judicial review. (See section 307(d)(7)(A)) of the CAA.) You may obtain the regulatory text and other materials related to this rulemaking are available for review in the docket or copies may be mailed on request from the Air Docket by calling (202) 260-7548. We may charge a reasonable fee for copying docket materials. You may also obtain docket indexes by facsimile, as described on the Office of Air and Radiation, Docket and Information Center Website at http://www.epa.gov/airprogm/oar/docket/faxlist.html.

Public Hearing

Persons interested in presenting oral testimony or inquiring as to whether a hearing is to be held should contact Ms. Tanya Medley, U.S. EPA, (C504-05), Research Triangle Park, NC 27709, telephone (919) 541-5422, at least 2 days in advance of the public hearing. Persons interested in attending the public hearing must also call Ms. Tanya Medley to verify the time, date, and location of the hearing. The public hearing will provide interested parties the opportunity to present data, views, or arguments concerning these proposed amendments.

Worldwide Web

In addition to being available in the docket, an electronic copy of this proposed rule will also be available through the Worldwide Web (WWW). Following signature, a copy of the rule will be posted on the EPA's Technology Transfer Network (TTN) policy and guidance page for newly proposed or promulgated rules at http://www.epa.gov/ttn/oarpg. The TTN at EPA's web site provides information and technology exchange in various areas of air pollution control. If more information regarding the TTN is needed, call the TTN HELP line at (919) 541-5384.

Regulated Entities

If your facility produces vegetable oil from corn germ, cottonseed, flax, peanuts, rapeseed (for example, canola), safflower, soybeans, or sunflower, it may be a “regulated entity.” Categories and entities potentially regulated by this action include:

Category | NAICS | Examples of regulated entities
Industry | 311223 | Cottonseed oil mills.
| 311222 | Soybean oil mills.
| 311223 | Other vegetable oil mills, excluding soybeans and cottonseed mills.
| 311223 | Other vegetable oil mills, excluding soybeans and cottonseed mills.
| 311119 | Prepared feeds and feed ingredients for animals and fowls, excluding dogs and cats.
| 311211 | Flour and other grain mill product mills.
| 311221 | Wet corn milling.
Federal government |  | Not affected.
State/local/tribal government |  | Not affected.

This table is not intended to be exhaustive, but rather provides a guide for readers regarding entities likely to be regulated by this action. To determine whether your facility is regulated by this action, you should examine the applicability criteria in § 63.2832 of the rule. If you have any questions regarding the applicability of these amendments to a particular entity, consult the appropriate EPA Regional Office representative.

What Are the Administrative Requirements for This Action?

For a complete discussion of all of the administrative requirements applicable to this action, see the direct final rule in the Rules and Regulations section of this Federal Register.

Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

Because the proposed rule amendments will not impose additional regulatory requirements on owners or operators of solvent extraction for vegetable oil production plants, I certify that this action will not have a significant economic impact on a substantial number of small entities.

For information regarding other administrative requirements for this action, please see the direct final rule action that is located in the Rules and Regulation section for this Federal Register publication.

List of Subjects in 40 CFR Part 63

Administrative practice and procedure, Air pollution control, Hazardous substances, Intergovernmental relations, Reporting and recordkeeping requirements.

Dated: March 5, 2002.
Christine Todd Whitman,
Administrator.

[FR Doc. 02-5863 Filed 4-4-02; 8:45 am]

BILLING CODE 6560-50-P